DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in Provo City and Orem City, Utah County, UT, and Tarrant County, TX. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before October 8, 2015.

FOR FURTHER INFORMATION CONTACT: Nancy-Ellen Zusman, Assistant Chief Counsel, Office of Chief Counsel, (312) 353-2577 or Terence Plaskon, Environmental Protection Specialist, Office of Environmental Programs, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA administrative record for the projects. Interested parties may contact either the project sponsor or the relevant FTA Regional Office for more information on each project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Provo-Orem Bus Rapid Transit, Provo City and Orem City, Utah County, UT. Project sponsor: Utah Transit Authority (UTA). Project description: UTA proposes to construct and operate a 10.5-mile long bus rapid transit project through Orem City and Provo City in Utah County. The project includes 18 stations, exclusive bus lanes, pedestrian ramp improvements, transit signal priority, and other necessary improvements. Final agency actions: Section 4(f) de minimis impact determination; Section 106 finding of no adverse effect; project-level air quality conformity; and Finding of No Significant Impact, dated March 27, 2015. Supporting documentation: Environmental Assessment, dated December 2014.

2. Project name and location: TEX Rail Corridor Project, Tarrant County, TX. Project sponsor: Fort Worth Transportation Authority. Project description: The proposed project is 27.2 miles of commuter rail transit operating in an exclusive right-of-way with at-grade and aerial sections between downtown Fort Worth, west of the Texas and Pacific Station, and the Dallas/Fort Worth International Airport at the Terminal A/B Station. The FTA issued a Record of Decision (ROD) for the project on September 29, 2014. After issuance of the ROD, the project sponsor proposed two changes to the project's design. Specifically, the project sponsor proposed to implement two stations, which had been deferred, in the City of North Richland Hills, TX and to construct a separate equipment maintenance facility in the City of Fort Worth, TX, instead of developing a shared equipment maintenance facility with the Trinity Railway Express as described in the Final Environmental Impact Statement (FEIS) and ROD. After a re-evaluation of the three proposed changes, FTA determined that the environmental impacts associated with the project changes did not warrant a Supplemental Environmental Impact Statement. This notice only applies to the discrete actions taken by FTA at this time. Nothing in this notice affects the FTA's previous decisions, or notice thereof, for this project. Final agency actions: No use determination of Section 4(f) resources; Section 106 finding of no adverse effect; project-level air quality conformity; and Amended Record of Decision, dated April 16, 2015. Supporting documentation: TEX Rail Reevaluation of Project Changes, dated March 2015, and Final Environmental Impact Statement, dated May 19, 2014.

Issued on: May 5, 2015.
Lucy Garliauskas,
Associate Administrator Planning and Environment.

[FR Doc. 2015-11313 Filed 5-8-15; 8:45 am]

BILLING CODE P